DEPARTMENT OF THE INTERIOR

National Park Service

30-Day Notice of Submission to the Office of Management and Budget; Opportunity for Public Comment

AGENCY: The Department of the Interior, National Park Service.

ACTION: Notice and request for comments.

SUMMARY: Under the provisions of the Paperwork Reduction Act of 1995 (Pub. L. 104-13, 44 U.S.C. 3507) and 5 CFR part 1320, Reporting and Recordkeeping Requirements, the National Park Service (NPS) invites public comments on a revision of a currently approved collection of information (OMB #1024-0021).

DATES: Public comments on the Information Collection Request (ICR) will be accepted on or before July 25, 2007.

ADDRESSES: You may submit comments directly to the Desk Officer for the Department of the Interior (OMB # 1024-0021), Office of Information and Regulatory Affairs, OMB, by fax at 202/395-6566, or by electronic mail at oria_docket@omb.eop.gov. Please also send a copy of your comments to Richard E. Merryman, NPS, National Capital Region (Room 128), 1100 Ohio Drive, SW., Washington, DC 20242, or by fax at 202/401-2430, or by electronic mail at rick_merryman@nps.gov.

FOR FURTHER INFORMATION CONTACT: Richard E. Merryman, National Capital Region, 1100 Ohio Dr., Room 128, SW., Washington, DC 20242, or by phone at 202/619-7225, or by fax at 202/401-2430, or by e-mail at rick_merryman@nps.gov. You are entitled to a copy of the entire ICR package free of charge.

Comments Received on the 60-Day Federal Register Notice: The NPS published at 60-Day Notice to solicit public comments on this ICR in the Federal Register on March 9, 2007 (Vol. 72, pages 10554-10555). The comment period closed on May 7, 2007. No comments were received.

SUPPLEMENTARY INFORMATION: Title: National Capital Region Application for Public Gathering, 36 CFR 7.96(g).

Form Number: None.

OMB Number: 1024-0021.

Expiration Date:June 30, 2007.

Type of Request: Revision of a currently approved collection of information.

Description of Need: The information collection responds to the statutory requirement (36 CFR 7.96(g)) that the NPS preserve park resources and regulate the use of units of the National Park System. The information to be collected identifies: (1) Those individuals and/or organizations that wish to conduct a public gathering on NPS property in the National Capital Region, (2) the logistics of a proposed demonstration or special event that aid the NPS in regulating activities to insure that they are consistent with the NPS mission, (3) potential civil disobedience and traffic control issues for the assignment of United States Park Police personnel, and (4) circumstances which may warrant a bond to be assigned to the event for the purpose of covering potential cost to repair damage caused by the event.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Frequency of Collection. On occasion.

Description of Respondents: Individuals or organizations that wish to conduct a special event or demonstration on NPS properties within the National Capital Region that lie within the geographical limits set forth in 36 CFR 7.96(g).

Estimated average number of annual respondents: 2500 per year.

Estimated average number of responses: 2500 per year.

Estimated average time burden per respondent: 30 minutes.

Frequency of response: Once per respondent.

Estimated total annual reporting burden: 1,250 hours per year.

Dated: June 18, 2007.
Leonard E. Stowe,
NPS, Information Collection Clearance Officer.

[FR Doc. 07-3092 Filed 6-22-07; 8:45 am]

BILLING CODE 4312-JK-M